DEPARTMENT OF HEALTH AND HUMAN SERVICES

Health Resources and Services Administration

Agency Information Collection Activities: Submission to OMB for Review and Approval; Public Comment Request

ACTION: Notice.

SUMMARY: In compliance with Section 3506(c)(2)(A) of the Paperwork Reduction Act of 1995 (44 U.S.C. Chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

Information Collection Request Title: Medicare Rural Hospital Flexibility Grant Program Performance Measure Determination (OMB No. 0915-xxxx)—New

Abstract: The purpose of the Medicare Rural Hospital Flexibility Program (Flex), authorized by Section 4201 of the Balanced Budget Act of 1997 (BBA), Public Law 105-33 and reauthorized by Section 121 of the Medicare Improvements for Patients and Providers Act of 2008, Public Law 110-275, is to support improvements in the quality of health care provided in communities served by Critical Access Hospitals (CAHs); to support efforts to improve the financial and operational performance of the CAHs; and to support communities in developing collaborative regional and local delivery systems. Additionally, the Flex program assists in the conversion of qualified small rural hospitals to CAH status. The provision and delivery of quality health care to rural America is a priority of the Department of Health and Human Services (HHS). The Flex program provides funding for states to support technical assistance activities in hospitals related to: improving health care quality, patient safety, hospital financial and operational efficiency, and care coordination; and ensuring adequate training and support within rural Emergency Medical Services systems. Measures and goals identified in the Flex program take into consideration existing measures and priorities HHS has set for hospitals, to avoid both conflict and duplication of efforts.

For this program, performance measures were drafted to provide data useful to the Flex program and to enable HRSA to provide aggregate program data required by Congress under the Government Performance and Results Act (GPRA) of 1993 (Pub. L. 103-62). These measures cover principal topic areas of interest to the Office of Rural Health Policy, including: (a) Quality reporting; (b) quality improvement interventions; (c) financial and operational improvement initiatives; and (d) multi-hospital patient safety initiatives. Several measures will be used for this program and will inform the Office's progress toward meeting the goals set in GPRA.

This notice is the second of two Federal Register Notices issued regarding the intent to collect program performance measures, and the Office of Rural Health Policy received one set of comments for the original 60-day notice published on December 31, 2012 (Vol. 77, No. 250, pp. 77079-77080). The Office of Rural Policy responded to the comments and adjusted the burden estimate based on new calculations.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

The annual estimate of burden is as follows:

Form name | Number of respondents | Responses per respondent | Total responses | Hours per response | Total burden hours
Medicare Rural Hospital Flexibility Grant Program | 45 | 1 | 45 | 216 | 9,720
Total | 45 | 1 | 45 | 216 | 9,720

ADDRESSES: Submit your comments to the desk officer for HRSA, either by email to OIRA_submission@omb.eop.gov or by fax to 202-395-5806. Please direct all correspondence to the “attention of the desk officer for HRSA.”

Deadline: Comments on this ICR should be received within 30 days of this notice.

Dated: April 22, 2013.
Bahar Niakan,
Director, Division of Policy and Information Coordination.

[FR Doc. 2013-09946 Filed 4-25-13; 8:45 am]

BILLING CODE 4165-15-P